DEPARTMENT OF COMMERCE

National Institute of Standards and Technology

[Docket Number: 1006080242-0242-01]

Manufacturing Extension Partnership (MEP) Availability of Funds for Projects To Develop and Demonstrate Integrated Tools, Training, and Methodologies for Growth Transformation and To Share With the MEP Program and Information Session for Potential Applicants

AGENCY: National Institute of Standards and Technology (NIST), Department of Commerce (DOC).

ACTION: Notice.

SUMMARY: The National Institute of Standards and Technology (NIST) invites proposals from qualified organizations for projects that address new and emerging competitive needs of manufacturers in areas consistent with the NIST MEP Program's five Strategic Growth Areas (Supply Chain, Sustainability, Technology Acceleration, Workforce and Continuous Improvement). Funded projects will improve the competitiveness of industries in the applicant's region, and contribute to the long-term economic stability of the region. Please see the NIST MEP Web site, http://www.nist.gov/mep for details on these strategies. Funded projects will use innovative or collaborative approaches to develop and demonstrate integrated tools, training and methodologies for growth transformation that meet the Strategic Growth Area needs and to share those approaches with the MEP National System. NIST MEP will hold a webinar information session for organizations considering applying to this opportunity.

DATES: All applications must be received or postmarked no later than 5:00 p.m. Eastern Daylight Saving Time on July 15, 2010. Late proposals will not be reviewed. NIST MEP will hold a free webinar information session for organizations considering applying to this opportunity on June 22, 2010 at 2 p.m. Eastern Daylight Saving Time.

Information Sessions: NIST MEP will hold an information session for organizations considering applying to this opportunity. The information session will be in the form of a webinar to be held on the date stated in the DATES section of this Federal Register Notice (7 days following the posting of the announcement). Registration information will be posted on the NIST MEP public Web site http://www.nist.gov/mep.

ADDRESSES: Hard copy submissions should be sent to: National Institute of Standards and Technology, Manufacturing Extension Partnership, c/o Diane Henderson, 100 Bureau Drive, Stop 4800, Gaithersburg, MD 20899-4800. Electronic submissions should be uploaded to http://www.Grants.gov.

FOR FURTHER INFORMATION CONTACT: A paper copy of the Federal Register Notice (FRN) may be obtained by calling (301) 975-6328. Administrative, budget, cost-sharing, and eligibility questions should be addressed to Diane Henderson at Tel: (301) 975-5105; E-mail: diane.henderson@nist.gov; Fax: (301) 963-6556. Project evaluation criteria and other programmatic questions should be addressed to Alex Folk at Tel: (301) 975-8089; E-mail: alex.folk@nist.gov; Fax: (301) 963-6556. Grants Administration questions should be addressed to: Grants and Agreements Management Division, National Institute of Standards and Technology, 100 Bureau Drive, Stop 1650, Gaithersburg, MD 20899-1650; Tel: (301) 975-6328. For assistance with using Grants.gov contact support@grants.gov or call 800-518-4726. All questions and responses will be posted on the MEP Web site, http://www.nist.gov/mep.

SUPPLEMENTARY INFORMATION: Electronic access: Applicants are strongly encouraged to read the Federal Funding Opportunity (FFO) announcement available at http://www.grants.gov for complete information about this program, including all program requirements and instructions for applying by paper or electronically. The FFO may be found by searching under the Catalog of Federal Domestic Assistance Name and Number provided below.

Authority: 15 U.S.C. 278(k)(f).

(Catalog of Federal Domestic Assistance Name and Number: Manufacturing Extension Partnership—11.611)

Information Session: NIST MEP will hold a free information session for organizations considering applying to this opportunity. The information session will be in the form of a free webinar to be held on the date specified in the DATES section above at 2 p.m. Eastern Daylight Saving Time. Organizations wishing to participate in the webinar must register at the NIST MEP public Web site http://www.nist.gov/mep.

Program Description: The objective of NIST MEP program is to increase productivity, enhance technological performance, and strengthen the global competitiveness of small- and medium-sized U.S. based manufacturing firms. In accordance with 15 U.S.C. 278k(f), the NIST Director, in consultation with the Director of the MEP Centers Program, the MEP Advisory Board, and small and medium-sized manufacturers, has identified five Strategic Growth Areas that address new or emerging manufacturing problems, which are addressed in this competition. The five Strategic Growth Areas upon which the competition will focus are: Supply Chain, Sustainability, Technology Acceleration, Workforce and Continuous Improvement. NIST invites proposals from qualified organizations for funding projects that address the five Strategic Growth Areas. Please see the NIST MEP Web site, http://www.nist.gov/mep for details on these Strategic Growth Areas. Funded projects will improve the competitiveness of industries in the applicant's region, and contribute to the long-term economic stability of the region. Competitive projects will use innovative or collaborative approaches to develop and demonstrate integrated tools, training and methodologies for growth transformation that meet the Strategic Growth Area needs and to share those approaches with the MEP National System.

All organizations meeting eligibility requirements provided herein are invited to submit proposals.

It is important that these awards be well aligned with the MEP national system of extension service providers in order to maximize the potential and impact of existing resources available to manufacturers through the MEP Program. Further information regarding this MEP Program is provided in the information packet, which can be obtained at http://www.grants.gov, with additional background information provided at http://www.nist.gov/mep.

The proposal should include plans for integration into the MEP national system and linkages to appropriate national resources.

Funding Availability: The total amount awarded under this solicitation will not exceed $3,500,000.

Projects initiated under this category may be carried out over a period of up to three years. If NIST selects a proposal for a multi-year award, funding will generally be provided for only the first year of the program. Continuation of an award or extensions of the period of performance is at the total discretion of the NIST. If NIST selects an application for funding, NIST has no obligation to provide any additional future funding in connection with that award. Funding for each subsequent year of a multi-year proposal will be contingent upon satisfactory progress and the availability of funds. Projects are expected to start within 30 days of award notice.

Cost Share Requirements: Recipients of awards under this solicitation are not required to provide cost share.

Eligibility: Eligible applicants include existing MEP extension centers or consortia of centers. A consortium of MEP centers is strongly encouraged to adequately demonstrate the leveraging of resources and competencies tied to the strategic areas.

Application Requirements: Applications must be submitted in accordance with the requirements set forth in the corresponding FFO announcement.

Evaluation Criteria: All qualified proposals will be evaluated based on the following seven criteria, which are assigned equal weighting.

(1) Demonstration that the proposed project outputs and objectives are aligned with and will meet the technical assistance needs of technical assistance providers and manufacturers. The proposal must clearly articulate the needs to be addressed and solutions to be demonstrated within the proposed scope. The proposal should show that the efforts being proposed meet the needs identified and clearly defined deliverables.

Factors that may be considered include: a clear articulation of the tools, training and methodologies to be developed; an articulation of the five MEP Strategic Growth Areas (Supply Chain, Sustainability, Technology Acceleration, Workforce and Continuous Improvement); and demonstration of what and how the proposed integration of the areas will be achieved.

(2) Development methodology and leverage of existing resources. The proposal must describe the technical plan for the development of the tool(s) or resource(s), including a clearly articulated project plan for development, training and demonstration of the products or deliverables. Sources of expertise to be used should be clearly delineated and may include sources internal to the proposer or from other organizations. Factors that may be considered include: adequacy of the proposed technical plan; strength of core competency in the proposed area of activity; and demonstrated access to relevant subject matter expertise external to the organization.

(3) Degree of integration with the manufacturing extension partnership. The proposal must demonstrate that the tool or resource will be integrated into and will be of service to the NIST Manufacturing Extension Centers. Factors that may be considered include: ability to access the tool or resource especially by MEP extension centers; adequacy of methodology for disseminating or promoting use of the tool or technique especially within the MEP system; and demonstrated interest in using the tool or technique especially by MEP extension centers. A plan that reflects not only the development activities but the specific actions needed to educate, train and deploy within the MEP system is critical.

(4) Coordination with other relevant organizations. Wherever possible the project should be coordinated with and leverage other organizations including other MEP extension centers which are developing or have expertise on similar tools, techniques, practices, or analyses. If no such organizations exist, the proposal should show that this is the case. Applicants will need to describe how they will coordinate to allow for increased economies of scale and to avoid duplication. Factors that may be considered include: demonstrated understanding of existing organizations and resources relevant to the proposed project; adequate linkages and partnerships with existing organizations and clear definition of those organizations' roles in the proposed activities; and demonstration that the proposed activity does not duplicate existing services or resources.

(5) Program evaluation. The applicant should specify plans for evaluation of the effectiveness of the proposed tool(s), or technique(s) or methodologies and for ensuring continuous improvement of each. Factors that may be considered include: Thoroughness of evaluation plans, (including internal evaluation for management control); use of adequate case studies for the use of external evaluation for assessing outcomes of the activity; adoption by MEP centers of products developed; and adequate “customer satisfaction” measures of performance.

(6) Management experience and plans. Applicants should specify plans for proper project staffing, and management of the project. Factors that may be considered include: appropriateness and authority of the organization to conduct the proposed activities; qualifications of the project team and the project team's leadership to conduct the proposed activity; and appropriateness of the organizational approach for carrying out the proposed project.

(7) Financial plan. Applicants should show the relevance and cost effectiveness of the financial plan for meeting the objectives of the project; and the firmness and level of the applicant's total financial capacity for the project. Factors that may be considered include: Reasonableness of the budget; strength of commitment; effectiveness of management plans for control of budget; and demonstration of past successful experience on similar projects.

Selection Factors

The Selecting Official, who is the Director of the NIST MEP Program, anticipates recommending proposals for funding in rank order of scores based on the criteria listed above unless a proposal is justified to be awarded out of rank order based on one or more of the following selection factors:

1. Availability of Federal funds.

2. Appropriate consideration for coverage of all five MEP Strategic Growth Areas.

3. Whether this project duplicates other projects funded by Department of Commerce or other Federal agencies.

Proposal Review and Selection Process

a. Proposal Qualification

All proposals will be reviewed by NIST to assure that they are complete and responsive.

All complete and responsive proposals will be designated qualified proposals; all others will be disqualified at this phase of the evaluation and selection process.

b. Proposal Review and Selection of Finalists

NIST will appoint an evaluation panel to review and evaluate all qualified proposals in accordance with the evaluation criteria set forth in this part. The evaluation panel will consist of NIST employees, and in some cases, other federal employees or non-federal experts who sign non-disclosure agreements. If the review panel is composed of non-federal employees, the reviewers will provide individual scores, and no consensus advice will be given. A site visit may be required to fully evaluate a proposal. If NIST determines that site visits are necessary, the site visits would take place after the review panel conducts its initial review. The Evaluation Panel and Chair will conduct site visits for all proposals that meet a minimum threshold score to be determined by NIST. All proposals will be numerically ranked and then submitted to the Selecting Official, the Director of the NIST MEP Program for selection based on the ranking, site visit comments if conducted, and the selection factors listed above.

NIST may enter into negotiations with the finalists concerning any aspect of their proposal.

c. Award Determination

The Selecting Official shall select awardees based on total evaluation scores/rank and the selection factors provided above and make funding recommendations to the NIST Grants Officer. Upon the final award decision, a notification will be made to each of the proposing organizations.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. As a result of the selection process, NIST may fund all, some, or parts of the eligible applications submitted, or none at all. The decision of the Grants Officer is final.

Unsuccessful applicants will be notified in writing. The Program will retain one copy of each unsuccessful application for three years for record keeping purposes. The remaining copies will be destroyed.

The Department of Commerce Pre-Award Notification Requirements for Grants and Cooperative Agreements: The Department of Commerce Pre-Award Notification Requirements for Grants and Cooperative Agreements, which are contained in the Federal Register Notice of February 11, 2008 (73 FR 7696), are applicable to this notice. Please refer to http://www.gpoaccess.gov/fr/.

Dun and Bradstreet Data Universal Numbering System: On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Please confirm that the EIN/TIN and DUNS number are consistent with the information on the CCR and ASAP.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

Funding Availability and Limitation of Liability: The funding periods and funding amounts referenced in this notice and request for proposals are subject to the availability of funds, as well as to Department of Commerce and NIST priorities at the time of award. The Department of Commerce and NIST will not be held responsible for proposal preparation costs. Publication of this notice does not obligate the Department of Commerce or NIST to award any specific grant or cooperative agreement or to obligate all or any part of available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Dated: June 10, 2010.
David M. Robinson,
Chief Financial Officer.

[FR Doc. 2010-14393 Filed 6-14-10; 8:45 am]

BILLING CODE 3510-13-P